DEPARTMENT OF DEFENSE

Office of the Secretary

[Transmittal No. 19-48]

Arms Sales Notification

AGENCY: Defense Security Cooperation Agency, Department of Defense.

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(1) arms sales notification is published to fulfill the requirements of section 155 of Public Law 104-164 dated July 21, 1996. The following is a copy of a letter to the Speaker of the House of Representatives, Transmittal 19-48 with attached Policy Justification.

Dated: December 9, 2019.
Aaron T. Siegel,
Alternate OSD Federal Register Liaison Officer, Department of Defense.

BILLING CODE 5001-06-P

BILLING CODE 5001-06-C

Transmittal No. 19-48

Notice of Proposed Issuance of Letter of Offer Pursuant to Section 36(b)(1) of the Arms Export Control Act, as amended

(i) Prospective Purchaser: Republic of Korea

(ii) Total Estimated Value:

Major Defense Equipment* | $ 0 million
Other | $950 million
TOTAL | $950 million

(iii) Description and Quantity or Quantities of Articles or Services under Consideration for Purchase: The Republic of Korea has requested to purchase items and services for follow-on support to the RQ-4 Block 30 Remotely Piloted Aircraft (RPA) program.

Major Defense Equipment (MDE): None

Non-MDE: Contractor Logistics Support (CLS); program management; training for pilots maintenance, logistics and communications personnel; depot and organizational level maintenance; minor modifications and upgrades; spares and repair/return parts; operational flight support; program analysis; publications and technical documentation; U.S. Government and contractor technical and logistics services; and other related elements of logistics and program support.

(iv) Military Department: Air Force (KS-D-QFU)

(v) Prior Related Cases, if any: KS-D-SAD

(vi) Sales Commission, Fee, etc., Paid, Offered, or Agreed to be Paid: None

(vii) Sensitivity of Technology Contained in the Defense Article or Defense Services Proposed to be Sold: None

(viii) Date Report Delivered to Congress: July 29, 2019

* As defined in Section 47(6) of the Arms Export Control Act.

POLICY JUSTIFICATION

Republic of Korea—Contractor Logistics Support (CLS) for RQ-4 Block 30 Remotely Piloted Aircraft (RPA)

The Republic of Korea has requested to purchase Contractor Logistics Support (CLS); program management; training for pilots maintenance, logistics and communications personnel; depot and organizational level maintenance; minor modifications and upgrades; spares and repair/return parts; operational flight support; program analysis; publications and technical documentation; U.S. Government and contractor technical and logistics services; and other related elements of logistics and program support. The total estimated program cost is $950 million.

This proposed sale will support the foreign policy and national security objectives of the United States by meeting the legitimate security and defense needs of one of the closest allies in the INDOPACOM Theater. The Republic of Korea is one of the major political and economic powers in East Asia and the Western Pacific and a key partner of the United States in ensuring peace and stability in that region. It is vital to U.S. national interests to assist the Republic of Korea in developing and maintaining a strong and ready self-defense capability.

This proposed sale will enable the Republic of Korea to sustain and operate its fleet of RQ-4 Block 30 remotely piloted aircraft and will significantly advance U.S. interests in standardization with the Republic of Korea's Armed Forces. The potential sale will further strengthen the interoperability between the United States and the Republic of Korea and ensures the Alliance has a robust intelligence, surveillance, and reconnaissance (ISR) capability on the Korean peninsula. The ROK will have no difficulty absorbing this equipment into its armed forces.

The proposed sale of this equipment and support will not alter the basic military balance in the region.

The principal contractor will be Northrop Grumman Corporation located in Palmdale, CA. There are no known offset agreements proposed in conjunction with this potential sale. Any offset agreement will be defined in negotiations between the Purchaser and the prime contractor.

Implementation of the proposed sale will not require the assignment of any additional U.S. Government or contractor representatives to the ROK.

There will be no adverse impact on U.S. defense readiness as a result of this proposed sale.

All defense articles and services in this transmittal have been approved for release and export to the Republic of Korea.

[FR Doc. 2019-27014 Filed 12-13-19; 8:45 am]

BILLING CODE 5001-06-P